DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning the continued use of FEMA Form 95-22, Application for Admission, that is used to select participants for the U.S. Fire Administration (USFA) Executive Fire Officer Program (EFOP).

SUPPLEMENTARY INFORMATION: Public Law 93-498, the Fire Prevention and Control Act of 1974, created the National Fire Academy (NFA) which provides for courses and programs to train fire service personnel. Since 1985 USFA/NFA has sponsored and offered the EFOP, a professional development program for senior and executive level fire officers. The standard application form (FEMA Form 75-5, approved under OMB No. 1660-0005), used for all USFA/NFA courses, does not provide the sufficient information to select the most qualified applicants for the program. FEMA Form 95-22 will require a brief essay for questions specific to EFOP functions.

Collection of Information

Title: National Fire Academy Executive Fire Officer Program Application Form.

Type of Information Collection: Revision of a currently approved collection.

OMB Number: 1660-0021.

Form Numbers: FEMA Form 95-22, Application for Admission.

Abstract: The EFOP annually receives more applications from qualified applicants than there are program slots available. Additional information is required to objectively evaluate the applicant's writing capability, professional accomplishments, and analytical ability. This information along with supporting documentation are used to select the most qualified participants for the EFOP.

Affected Public: Individuals and households, and State, local or tribal governments.

Estimated Total Annual Burden Hours: 800 hours.

Annual Hour Burden
Data collection activity/instrument | No. of respondents | Frequency of responses | Hour burden per response | Annual responses | Total annual burden hours
| (A) | (B) | (C) | (D) = (A×B) | (C×D)
FEMA Form 95-22 | 400 | 1 | 1 | 400 | 400
Additional Documentation: Letter of Intent, Resume, Letter of Recommendation, Diploma Photocopy, Organizational Chart | 400 | 1 | 1 | 400 | 400
Total | 400 |  |  |  | 800

Estimated Cost: Therefore; the estimated cost to respondents using wage rate categories is estimated to be $55,616.00 and the cost for postage and mailing to respondents is estimated to be $1,960.00 annually. The annual cost to respondents is estimated to total $57,576.00. The annual cost to the government for spending time reviewing FEMA Form 95-22 and additional documentation is estimated to be $1,836.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before October 9, 2007.

ADDRESSES: Interested persons should submit written comments to Chief, Records Management and Privacy, Information Resources Management Branch, Information Technology Services Division, Federal Emergency Management Agency, 500 C. Street, SW., Room 609, Washington, DC 20472.

FOR FURTHER INFORMATION CONTACT: Contact Chuck Burkell, (301) 447-1072 for additional information. You may contact the Records Management Branch for copies of the proposed collection of information at facsimile number (202) 646-3347 or e-mail address: FEMA-Information-Collections@dhs.gov.

Dated: July 31, 2007.
John A. Sharetts-Sullivan,
Director, Office of Records Management, Office of Management Directorate, Federal Emergency Management Agency, Department of Homeland Security.

[FR Doc. E7-15430 Filed 8-7-07; 8:45 am]

BILLING CODE 9110-17-P